NATIONAL AERONAUTICS AND SPACE ADMINISTRATION

[Notice (10-040)]

NASA Advisory Council; Audit, Finance and Analysis Committee; Meeting

AGENCY: National Aeronautics and Space Administration.

ACTION: Notice of meeting.

SUMMARY: In accordance with the Federal Advisory Committee Act, Public Law 92-463, as amended, the National Aeronautics and Space Administration announces a meeting of the Audit, Finance and Analysis Committee of the NASA Advisory Council.

DATES: Tuesday, April 27, 2010, 9 a.m.-11 a.m. CDT.

ADDRESSES: NASA Johnson Space Center, Gilruth Conference Center, Lonestar Room, 2101 NASA Parkway, Houston, TX 77058.

FOR FURTHER INFORMATION CONTACT: Ms. Charlene Williams, Office of the Chief Financial Officer, National Aeronautics and Space Administration Headquarters, Washington, DC 20546. Phone: 202-358-2183, fax: 202-358-4336.

SUPPLEMENTARY INFORMATION: The agenda for the meeting includes the following topic:

• GAO High Risk List

The meeting will be open to the public up to the seating capacity of the room. It is imperative that the meeting be held on this date to accommodate the scheduling priorities of the key participants.

Dated: March 31, 2010.
P. Diane Rausch,
Advisory Committee Management Officer, National Aeronautics and Space Administration.

[FR Doc. 2010-7770 Filed 4-5-10; 8:45 am]

BILLING CODE 7510-13-P